DEPARTMENT OF TRANSPORTATION

Federal Aviation Administration

Notice of Release From Federal Surplus Property and Grant Assurance Obligations at Ocotillo Airport, Ocotillo Wells, California

AGENCY: Federal Aviation Administration, DOT.

ACTION: Notice of Request to Release Airport Land.

SUMMARY: The Federal Aviation Administration (FAA) proposes to rule and invites public comment on the application for a release of approximately 0.25 acres of airport property and granting of an access easement at the Ocotillo Airport (Airport), Ocotillo Wells, California from all conditions contained in the Surplus Property Deed and Grant Assurances because the parcel of land is not needed for airport purposes. The land requested to be released is located at the eastern perimeter of the airport. The proposed access easement is through one of the Airport's Runway Protection Zones (RPZ). Both the subject parcel and easement areas are currently used as open space buffer zones. The subject parcel abuts state park land which is intended to be used for primary access of the subject parcel. The access easement will only be provided if state parks changes the land use surrounding the Airport.

DATES: Comments must be received on or before December 26, 2017.

FOR FURTHER INFORMATION CONTACT: Comments on the request may be mailed or delivered to the FAA at the following address: Lemuel del Castillo, Federal Aviation Administration, Los Angeles Airports District Office, Federal Register Comment, 15000 Aviation Boulevard Room 3000, Lawndale, CA 90261. In addition, one copy of the comment submitted to the FAA must be mailed or delivered to Mr. Peter Drinkwater, Director of Airports, County of San Diego—DPW, 1960 Joe Crosson Dr., El Cajon, CA 92020

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of San Diego, Department of Public Works, requested a release from Federal surplus property and grant assurance obligations for approximately 0.25 acres of airport land to allow for its sale and granting of an access easement. The property was originally acquired pursuant to the Surplus Property Act of 1944 and was deeded to the County of San Diego on August 17, 1956. The property is located in the rural community of Ocotillo Wells, in San Diego County, California, approximately 90 miles outside of downtown San Diego. The subject parcel and access easement are unimproved and located outside a berm surrounding the dry lake bed in which the airport's two runways are located. The access easement would provide an entrance to the subject parcel. This area is located along the eastern perimeter of the Airport, through one of the Airport's Runway Protection Zones (RPZ). Both areas are currently used as open space buffer zones, with a portion of the Access Easement used as RPZ. The future use and highest and best use would be expected to be the same as the current use. There are no basic utilities available in the area. The subject parcel abuts state park land which is intended to be used for primary access to the subject parcel. The access easement will only be provided if state parks changes the land use and access to the surrounding the Airport.

The sale price of the parcel will be based on an appraisal at fair market value. The sales proceeds that the County of San Diego will receive will provide improvements at the Airport, including a transient aircraft parking ramp and an informational kiosk. The sale of the property will not interfere with the airport or its operation, thereby serving the interests of civil aviation.

Issued in Hawthorne, California, on November 16, 2017.
David F. Cushing,
Manager, Los Angeles Airports District Office, Western-Pacific Region.

[FR Doc. 2017-25422 Filed 11-22-17; 8:45 am]

BILLING CODE 4910-13-P